LIBRARY OF CONGRESS

U.S. Copyright Office

37 CFR Parts 201, 202, 203, 204, 205, 210, 211, 212, 253, 255, 258, 260, 261, 262, 263, and 270

[Docket No. 2016-5]

Copyright Office Technical Amendments

AGENCY: U.S. Copyright Office, Library of Congress.

ACTION: Notice of proposed rulemaking.

SUMMARY: The U.S. Copyright Office is proposing to amend its regulations governing registration, recordation, licensing, and other services that the Office provides. The amendments will improve the quality of the Office's regulations by updating cross-references to the Copyright Act and the Office's regulations, replacing outdated terminology, reflecting structural changes to the Office and its senior management, eliminating expired or obsolete provisions, and correcting nonsubstantive errors. While these amendments are intended to be technical in nature, out of an abundance of caution, the Office is publishing the proposed regulations for public comment.

DATES: Written comments must be received no later than 11:59 p.m. Eastern Time on November 2, 2016.

ADDRESSES: The Copyright Office is using the regulations.gov system for the submission and posting of public comments in this proceeding. All comments are therefore to be submitted electronically through regulations.gov. Specific instructions for submitting comments are available on the Copyright Office Web site at http://copyright.gov/rulemaking/2016technicalamendments/index.html. If electronic submission of comments is not feasible, please contact the Office using the contact information below for special instructions.

FOR FURTHER INFORMATION CONTACT: Sarang V. Damle, General Counsel and Associate Register of Copyrights, sdam@loc.gov; Regan A. Smith, Associate General Counsel, resm@loc.gov; or Erik Bertin, Deputy Director of Registration Policy and Practice, ebertin@loc.gov. Each person can be reached by telephone at 202-707-8040.

SUPPLEMENTARY INFORMATION: The U.S. Copyright Office (the “Office”) is proposing to make a series of technical amendments (the proposed “Rule”) that address certain inconsistencies and inaccuracies in parts 201, 202, 203, 204, 205, 210, 211, 212 and subchapter B of title 37 of the Code of Federal Regulations. Specifically, the proposed rule makes technical changes to regulations governing registration, recordation, and licensing. These changes include the removal of expired or obsolete provisions that no longer serve any purpose, such as regulations issued under the now-defunct Copyright Arbitration Royalty Panel system. It also proposes technical changes to the regulations for submitting requests under the Freedom of Information Act and the Privacy Act, the procedures for serving legal process on the Office, and the regulations governing the Office's general operations.

While the amendments are self-explanatory, for convenience, the Office has summarized them in seven categories below.

I. Reorganization of the U.S. Copyright Office

The Register of Copyrights has reorganized the administrative divisions of the Office in the last few years. The Register appointed a Chief Information Officer (“CIO”) to serve as her primary advisor on information technology, and a Director of the Copyright Technology Office, who supervises the day-to-day maintenance of the Office's registration and recordation systems.

The Register also divided the former Information and Records Division into the Office of Public Records and Repositories (“PRR”) and Office of Public Information and Education (“PIE”). PRR, headed by an expert in public administration, includes the Recordation Section, the Records Management Section, and the Records Research and Certification Section. PIE is headed by an Associate Register of Copyrights and includes the Publications Section and the Copyright Information Section.

The proposed rule reflects these developments by updating § 203.3 by providing titles of the Office's senior management and updated descriptions for each division within the Office, including the Office of the Register, the Office of the General Counsel, the Office of Policy and International Affairs, the Office of Registration Policy and Practice, the Office of Public Records and Repositories, the Office of Public Information and Education, the Office of the Chief Information Officer, and the Office of the Chief of Operations (which includes the Receipt Analysis and Control Division, the Copyright Acquisitions Division, and the Licensing Division). It also provides updated mailing addresses as set forth in 37 CFR 201.1(b)(2) and (c). Additionally, when referring to the Office's Web site, the proposed rule replaces the term “homepage” with the term “Web site.”

In the interest of consistency, the proposed rule also removes the initials “U.S.” from certain provisions that refer to the “U.S. Copyright Office.” Finally, the proposed rule clarifies that checks, money orders, or other fees submitted to the Office should be made payable to the “U.S. Copyright Office,” rather than the “Register of Copyrights.” See, e.g., 37 CFR 201.6, 201.33(e)(2)(i), 201.39(g)(3)(i).

II. Compendium of U.S. Copyright Office Practices

The Compendium of U.S. Copyright Office Practices, Third Edition, published in December 2014, is the administrative manual of the Register of Copyrights concerning the statutory duties of the Copyright Office under title 17 of the United States Code. It serves as both a technical manual for the Office's staff and a guidebook for authors, copyright licensees, practitioners, scholars, the courts, and members of the general public.¹ The proposed rule clarifies the means for viewing and obtaining copies of the Third Edition, as well as prior editions of the Compendium, set forth in 37 CFR 201.2(b)(7).

¹ See The Compendium of U.S. Copyright Office Practices, 79 FR 78911 (Dec. 31, 2014).

III. Grammatical Amendments

The proposed rule corrects errors in spelling, capitalization, punctuation, spacing, and numbering, and addresses inconsistencies in the use of abbreviations, symbols, time periods, and italics. For example, the proposed rule revises 37 CFR 201.4 to reflect that registrations issued under the 1909 Act may contain a prefix consisting of one or two letters (e.g., E, EU, F, G, K, etc.) as opposed to “a two- or three-letter prefix,” and corrects the word “or” to “of” in the definition of “official certification.”

IV. Updated Citations and Cross-References to the Copyright Act and the Code of Federal Regulations

The proposed rule adopts the appropriate format for citing or cross-referencing other provisions of the Code of Federal Regulations, as recommended by the Federal Register Document Drafting Handbook. It also reserves §§ 201.15, 205.6 through 205.10, and 205.14 through 205.20 for future use.

In addition, the proposed rule revises erroneous cross-references to the Copyright Act and the Code of Federal Regulations. By way of example, the proposed rule corrects a cross-reference relating to the deposit requirements for certain sculptural works to make clear the Office's practice of allowing applicants, under certain circumstances, to submit a single copy of a board game (rather than two copies) instead of a photograph, as set forth in 37 CFR 202.20(c)(2)(i)(G) and (c)(2)(xi)(B).

V. Updated Terminology

The proposed rule reflects a number of changes in terminology. These changes replace outdated terms that are no longer used by the Office, but they do not represent a substantive change in policy. For example, the Office now uses the term “applicant” when referring to a person who submits an application for registration, and uses the term “remitter” when referring to a person who submits a document for recordation. The proposed rule adds these terms where they are missing from the regulations. The proposed rule also replaces the term “certificate of record” with “certificate of recordation,” “Visual Arts Regulatory Statements” with “Visual Arts Registry Statements,” “vessel hulls” with “vessel designs,” and “restored works” to “restored copyright.” It also removes references to information provided “on the application” for deposit accounts and the term “preregistration.” Finally, the proposed rule updates the name of Form SC from “Statement of Account for Secondary Transmissions by Satellite Carriers to Home Viewers” in § 201.11(d)(2) to “Statement of Account for Secondary Transmissions by Satellite Carriers of Distant Television Signals.”

VI. Improved Readability and Style

Consistent with the Office's longstanding policy,² the proposed rule replaces gender-specific references with gender-neutral references. The proposed rule also improves readability by renumbering certain provisions, by rewriting awkward phrases or paragraphs, and by deleting redundant provisions that repeat what is stated elsewhere in the same provision. For example, the Office's regulations governing Freedom of Information Act policies in § 203.4(f) and (g) were rewritten without substantive change to improve readability. In all cases, these changes are intended to clarify the existing regulations, but do not represent a substantive change in policy.

² Arthur Levine, Memories of Barbara Ringer, Copyright Notices, Apr. 2009, at 3, 6 (noting that Congress used male and female pronouns in the Copyright Act of 1976 at the request of Register of Copyrights Barbara Ringer), available at http://www.copyright.gov/docs/barabara-ringer-special-edition-2009-04.pdf.

VII. Expired or Obsolete Provisions

The Office has identified a number of provisions that have expired or have become obsolete. Because these provisions no longer serve any purpose, the Office is removing them from its regulations.

Effective Date of Registration for Registrations Issued in 1991. The Copyright Fees and Technical Amendments Act of 1989 increased the filing fee for registering a claim to copyright from $10 to $20.³ The proposed rule eliminates a provision in § 202.4 establishing a procedure for assigning an effective date of registration for claims received between January 3, 1991 and December 31, 1991 that were submitted with an insufficient filing fee, as these dates have passed.

³ Public Law 101-318, 104 Stat. 287, 287 (1990).

Registration of Mask Works. The proposed rule removes language in § 211.4(b)(1) specifying that January 7, 1985 will be the effective date of registration for applications to register mask works received before that date ⁴ because any such applications have been processed by now.

⁴ See Mask Work Protection; Implementation of the Semiconductor Chip Protection Act of 1984, 50 FR 263 (Jan. 3, 1985); Mask Work Protection; Implementation of the Semiconductor Chip Protection Act of 1984, 50 FR 26714 (June 28, 1985).

Recordation of Statements of Intent to Enforce Filed Under the North American Free Trade Agreement. Because the deadline for filing a “Statement of Intent” to reclaim copyright protection for certain motion pictures fixed or published in Canada or Mexico that fell into the public domain in the United States due to a lack of a copyright notice under NAFTA expired on December 31, 1994,⁵ and because the provision that authorized the Office to record these types of statements has been removed from the statute, the proposed rule removes the corresponding provision at 37 CFR 201.31 from the regulations.⁶

⁵ See Public Law 103-182, 107 Stat. 2057, 2115 (codified as 17 U.S.C. 104A (1993)); Public Law 103-465, 108 Stat. 4809, 4976-81 (1994).

⁶ See Procedures for Copyright Restoration of Certain Motion Pictures and their Contents in Accordance With the North American Free Trade Agreement, 59 FR 58789 (Nov. 15, 1994).

Registration of Restored Works. The proposed rule removes outdated language in § 201.31 related to a procedure for registering foreign works that were restored to copyright protection under section 104A of the Copyright Act (as amended by the URAA) ⁷ and describes the correct procedure for registering a restored work.

⁷ See Restoration of Certain Berne Works and WTO Works, 60 FR 50414 (Sept. 29, 1995); 17 U.S.C. 104A(e).

Recordation of Notices of Intent to Enforce a Restored Work Under the URAA. The proposed rule clarifies 37 CFR 201.33 and 201.34, which explain that a list of parties that filed a Notice of Intent to Enforce ⁸ a restored work under the URAA is available on the Office's Web site, by removing outdated instructions for logging onto the Office's Web site or for obtaining access to these records through terminals located in the Office and reflecting reliance upon email addresses rather than “telefax number[s].”

⁸ 17 U.S.C. 104A(e).

Recordation of Voluntary Agreements Between Copyright Owners and Public Broadcasters. In accordance with statutory changes that removed the prior section 118(b)(2) from the Copyright Act,⁹ and gave the Copyright Royalty Judges rather than the Register of Copyrights authority over the statutory license in section 118,¹⁰ the Office is removing the obsolete regulatory provision at 37 CFR 201.9 relating to recordation of voluntary agreements between copyright owners and public broadcasting entities ¹¹ from the regulations.

⁹ Public Law 106-44, 113 Stat. 221, 222 (1999).

¹⁰ Public Law 108-419, 118 Stat. 2341, 2365-67 (2004).

¹¹ See Filing of Agreements Between Copyright Owners and Public Broadcasting Entities, 42 FR 16776 (Mar. 30, 1977).

IBM-PC Compatible Disks for Recording Documents Pertaining to Computer Shareware. The Office is updating its administrative procedure in 37 CFR 201.26(d)(4)for recording documents pertaining to computer shareware to no longer indicate that they be submitted on both paper and diskette; they will now be accepted without a diskette. The Office has recorded less than two dozen shareware documents since the final rule was adopted.

Copyright Arbitration Royalty Panel Rules and Procedures. Subchapter B contains various regulations relating to the former Copyright Arbitration Royalty Panel or “CARP,” including legacy royalty rates for past accounting periods, which certain regulations were phased out by the Copyright Royalty and Distribution Reform Act of 2004.¹² The successor entity to the CARP, the Copyright Royalty Board, has issued its own set of rules and procedures.¹³ Accordingly, the Office is removing obsolete CARP regulations, while retaining parts 254 and 256 which contain information related to coin-operated phonorecord players and the cable compulsory license, respectively. However, the Office notes that these legacy rates and regulations will remain accessible via past editions of the Code of Federal Regulations for any who may have need to consult them. In addition, legacy regulations are available on the Government Publishing Office's Federal Digital System (“FDsys”) at www.gpo.gov/fdsys.

¹² See Public Law 108-419, 118 Stat. 2341 (2004).

¹³ See 37 CFR ch. III.

Statements of Account covering compulsory licenses for secondary transmissions by cable systems. The Office is removing the portions of § 201.17(i) that relate to filings covering the accounting periods in 1983 that were affected by the 1982 cable rate adjustment,¹⁴ as the Office does not expect to receive any additional filings covering these accounting periods. Similarly, the Office is removing § 201.17(m)(2)(iii), which applies only to statements for the 1978-1 accounting period, along with certain other references to pre-1978 activities in 201.17(e) and (f).

¹⁴ See Adjustment of the Royalty Rate for Cable Systems; Federal Communications Commission's Deregulation of the Cable Industry, 47 FR 52146 (Nov. 19, 1982).

Verification of a Statement of Account for secondary transmissions made by cable systems and satellite carriers. Effective November 18, 2014, the Office implemented § 201.16, which sets forth procedures by which a copyright owner may audit a statement of account filed with the Office under 17 U.S.C. 111(d)(1) or 119(b)(1).¹⁵ This regulation includes a provision outlining a procedure in the event the Office received a notice of intent to audit a statement of account prior to the effective date of the section. See 37 CFR 201.16(c)(7). Because the Office did not in fact receive any notice of intent to audit prior to the effective date of the section, that provision is now obsolete and may be removed.

¹⁵ See Verification of Statements of Account Submitted by Cable Operators and Satellite Carriers, 79 FR 68623 (Nov. 18, 2014).

Statements of Account for digital audio recording devices or media. Section 201.28(c)(3) includes provisions that solely concern Statements of Account filed for the period covering October 28, 1992 through the end of the first accounting year for importers/manufacturers of digital audio recording devices. Because the Office does not expect to receive any additional filings covering this accounting period, the Office is removing this language.

Forms on Copyright Office Web site. The proposed rule updates § 201.28 to reflect that forms relating to various statutory licenses are available on the Copyright Office Web site and removes references addressing requests by mail or facsimile.

Telegrams and Cablegrams. The existing regulations in §§ 201.13 and 201.22 allow copyright owners to serve certain types of notices required under sections 110(4)(B)(iii) ¹⁶ and 411(c) ¹⁷ by telegram or cablegram. The proposed rule updates these regulations to remove references to these obsolete forms of communication and instead allow for service of notices by email or fax.

¹⁶ 17 U.S.C. 110(4)(B)(ii) and (iii).

¹⁷ 17 U.S.C. 411(c)(1).

Inspection of U.S. Copyright Office Records. The proposed rule removes § 201.2(b)(4)'s requirement that requests to inspect a pending application, deposit for a pending application,¹⁸ or a document submitted for recordation¹⁹ be limited to materials submitted within twelve months prior to the request, given that the processing time for a paper application may be longer than that in some cases.

¹⁸ 37 CFR 201.2(b)(4)(i).

¹⁹ See Office Organization and Procedures in Providing Information, 50 FR 30169 (July 24, 1985).

Refunds. The proposed rule removes the reference to postage stamps in 37 CFR 201.6(c)(1) because in practice, the Office has never used this method of payment in issuing refunds.

List of Subjects

37 CFR Part 201

Copyright, General provisions.

37 CFR Part 202

Copyright, Preregistration and registration of claims to copyright.

37 CFR Part 203

Freedom of information.

37 CFR Part 204

Privacy.

37 CFR Part 205

Legal processes.

37 CFR Part 210

Copyright, Phonorecords, Recordings.

37 CFR Part 211

Mask work.

37 CFR Part 212

Design, Vessel hulls, Registration.

37 CFR Part 253

Copyright, Public broadcasting entities, Radio, Television.

37 CFR Part 255

Copyright, Music, Recordings.

37 CFR Part 258

Copyright, Satellite, Rates.

37 CFR Parts 260 through 263

Copyright, Digital audio transmissions, Performance right, Sound recordings.

37 CFR Part 270

Copyright, Sound recordings.

Proposed Regulations

For the reasons set forth in the preamble, the U.S. Copyright Office proposes amending 37 CFR parts 201, 202, 203, 204, 205, 210, 211, 212, 253, 255, 258, 260, 261, 262, 263, and 270 as follows:

PART 201—GENERAL PROVISIONS

1. Revise the authority citation for part 201 to read as follows:

Authority: 17 U.S.C. 702.

§ 201.1 [Amended]

2. Amend § 201.1 as follows:

a. In paragraph (a), remove “on-site deliveries from commercial and private couriers” and add in its place “direct deliveries from commercial couriers and messengers”.

b. In paragraph (b)(2), remove “20559” and add in its place “20559-6000”, remove the term “Hull” from the “Type of submission” column of the table, and remove the term “AD” from the “Code” column of the table and add in its place the term “CAD/AD”.

c. In paragraph (c)(1), remove “Information and Records Division” and add in its place “Office of Public Information and Education”.

d. In paragraph (c)(2), remove “Sections” and add in its place “sections”.

e. In paragraph (c)(4), remove “hull” and add in its place “design”.

f. In paragraph (c)(5), remove “Records Research and Certification,” and add in its place “Records Research and Certification Section,”.

g. In paragraphs (c)(6) and (c)(7), remove “Section” and add in its place “section”.

h. In paragraph (c)(7), remove “Ave.” and add in its place “Avenue”.

3. Amend § 201.2 as follows:

a. In paragraph (b)(1), remove “Certifications and Documents Section” and add in its place “Records Research and Certification Section”.

b. In paragraph (b)(3) introductory text, remove “Information and Records Division” and add in its place “Office of Public Information and Education”.

c. In paragraph (b)(3)(i)(C), remove “the remitter” and add in its place “the applicant or remitter”.

d. Redesignate the introductory text of paragraph (b)(4) as paragraph (b)(4)(i), redesignate paragraphs (b)(4)(i) and (ii) as paragraphs (b)(4)(i)(A) and (B), and designate the undesignated text preceding paragraph (b)(5) as paragraph (b)(4)(ii).

e. In newly redesignated paragraph (b)(4)(i), remove the phrase “that were submitted within the twelve month period immediately preceding the request for access”.

f. In newly redesignated paragraph (b)(4)(ii), remove “Copyright Information” and add in its place “Records Research and Certification”.

g. Revise paragraph (b)(7).

h. In paragraph (d)(1)(iv), remove “Certifications” and add in its place “Certification”.

The revision reads as follows:

§ 201.2 Information given by the Copyright Office.

* * * * *

(b) * * *

(7) The Register of Copyrights has issued an administrative manual known as the Compendium of U.S. Copyright Office Practices, Third Edition. The Compendium explains many of the practices and procedures concerning the Office's mandate and statutory duties under title 17 of the United States Code. It is both a technical manual for the Copyright Office's staff, as well as a guidebook for authors, copyright licensees, practitioners, scholars, the courts, and members of the general public. The Third Edition and prior editions of the Compendium may be viewed, downloaded, or printed from the Office's Web site. They are also available for public inspection and copying in the Records Research and Certification Section.

* * * * *

§ 201.3 [Amended]

4. Amend § 201.3 as follows:

a. In paragraph (c)(3), remove “predominately” and add in its place “predominantly”.

b. In paragraph (c)(9), remove the period from the end of the first line and add in its place a colon and remove “$130” and add in its place “130”.

c. In paragraph (c)(11), remove “hull” and add in its place “design”.

d. In the heading of paragraph (d), remove “Service Fees” and add in its place “service fees”.

e. In paragraph (d)(6), remove the period from the end of the term “Variable” in the “Fees ($)” column of the table.

f. In table heading of paragraph (e), remove “division” and add in its place “Division”.

§ 201.4 [Amended]

5. Amend § 201.4 as follows:

a. In the introductory text of paragraph (a)(1), remove “, as amended by Public Law 94-553”.

b. In paragraph (a)(2), remove “, as amended by Public Law 94-553”.

c. In paragraph (a)(3)(ii), remove “or” and add in its place “of”.

d. In paragraph (c)(4)(ii)(D)(4), remove “a two- or three-letter” and add in its place “a one-, two-, or three-letter”.

e. In paragraph (c)(4)(iii), add a period after “Public Catalog” and remove “and the remitter” and add in its place “The remitter”.

f. In paragraph (e), remove “record” and add in its place “recordation”.

§ 201.5 [Amended]

6. Amend § 201.5 as follows:

a. In paragraphs (a)(1) introductory text, (a)(1)(i)(A) and (a)(1)(ii), remove “, as amended by Public Law 94-553”.

b. In paragraph (b)(2)(i), remove the semicolon from the end and add in its place a period.

c. In paragraph (b)(2)(iii)(B), remove “; and” and add in its place a period.

§ 201.6 [Amended]

7. Amend § 201.6 as follows:

a. In paragraph (a), remove “Register of Copyrights” from the first sentence and add in its place “U.S. Copyright Office”.

b. In paragraph (b)(3), remove the last sentence.

c. In paragraph (c)(1), remove “hulls” from the first sentence and add in its place “designs”.

d. In paragraphs (c)(1) and (2), remove the phrase “, and refunds of less than $2 may be made in postage stamps”.

e. In paragraph (c)(3), remove the comma after the term “Records” in the last sentence.

f. In paragraph (d), remove “transferred for the” and add in its place “transferred for use in the”.

§ 201.7 [Amended]

8. Amend § 201.7 as follows:

a. In paragraph (c)(1), remove “de minimis” from the first sentence and add in its place “insufficiently creative” and remove “not in accordance with title 17 U.S.C., Chapters 1 through 8” from the last sentence and add in its place “not in accordance with U.S. copyright law”.

b. In paragraph (c)(2), remove “remitter” and add in its place “applicant”.

c. In paragraph (d), remove “remitter” from the first sentence and add in its place “applicant”.

§ 201.8 [Amended]

9. Amend § 201.8 as follows:

a. In paragraphs (c)(1) introductory text paragraph and (c)(1)(i), remove “claimant” and add in its place “applicant” each place it appears.

b. In paragraph (d), remove “certificate or registration” and add in its place “certificate of registration”.

c. In paragraphs (f)(2) and (3), remove “mail” and add in its place “Mail”.

d. In paragraph (g), remove “one of the addresses specified in § 201.1” and add in its place “the address specified in § 201.1(c)(1)”.

§ 201.9 [Removed and reserved]

10. Remove and reserve § 201.9.

§ 201.10 [Amended]

11. Amend § 201.10 as follows:

a. In the introductory text, remove “sections 203, 304(c) and 304(d) of title 17, of the United States Code” and add in its place “17 U.S.C. 203, 304(c), and 304(d)”.

b. In paragraphs (b)(1) introductory text, remove “sections 304(c) and 304(d) of title 17, U.S.C.,” and add in its place “17 U.S.C. 304(c) and 304(d)”.

c. In paragraph (b)(1)(vii)(B), remove “section 304 of title 17, U.S.C.,” and add in its place “17 U.S.C. 304”.

d. In paragraph (b)(2) introductory text, remove “section 203 of title 17, U.S.C.,” and add in its place ” 17 U.S.C. 203”.

e. In paragraph (b)(2)(vii)(B), remove “section 203 of title 17, U.S.C.” and add in its place “17 U.S.C. 203”.

f. In paragraph (c)(2), remove “section 304(c) or section 304(d), whichever applies, of title 17, U.S.C.” and add in its place “17 U.S.C. 304(c) or 304(d), whichever applies”.

g. In paragraph (c)(3), remove “section 203 of title 17, U.S.C.” and add in its place “17 U.S.C. 203”.

h. In paragraph (d)(2), remove “section 203, section 304(c) or section 304(d) of title 17, U.S.C.” and add in its place “17 U.S.C. 203, 304(c), or 304(d)”.

i. In paragraph (d)(4), remove “section 203, section 304(c), or section 304(d) of title 17, U.S.C.” and add in its place “17 U.S.C. 203, 304(c), or 304(d)”.

j. In paragraph (e)(1), remove “section 203, section 304(c), or section 304(d) of title 17, U.S.C.” and add in its place “17 U.S.C. 203, section 304(c), or section 304(d)”.

k. In paragraph (d)(1), remove “first-class” and add in its place “first class”.

l. In paragraph (d)(3), remove “reasonable investigation” and add in its place “reasonable investigation” and remove ” “reasonable investigation” ” and add in its place “reasonable investigation”.

m. In paragraph (f)(1) introductory text, remove “paragraph (2) of this paragraph (f)” and add in its place “paragraph (f)(2) of this section”.

n. In paragraph (f)(1)(ii), remove “first-class” and add in its place “first class”.

o. In paragraph (f)(3), remove “record” and add in its place “recordation”.

p. In paragraph (f)(4), remove “section 203(a)(3) or section 304(c)(3), as applicable, of title 17, United States Code” and add in its place “17 U.S.C. 203(a)(3) or 304(c)(3), whichever applies” and remove “§ 201.4(c)(3)” and add in its place “§ 201.4”.

q. In paragraph (f)(7), remove “§ 201.1” and add in its place “§ 201.1(c)(2)”.

§ 201.11 [Amended]

12. Amend § 201.11 as follows:

a. In paragraph (a), remove “section 119(b)(1) and Section 122(a) of title 17 of the United States Code, as amended by Public Law 111-175” and add in its place “17 U.S.C. 119(b)(1), as amended by Public Law 111-175”, remove “that” and add in its place “for”, and add the term “to” after the phrase “private home viewing”.

b. In paragraph (b)(1), remove “and” and add in its place “and”, remove “Section 119(d) of title 17 of the United States Code, as amended by Public Law 111-175” and add in its place “17 U.S.C. 119(d), as amended by Public Law 111-175”.

c. In paragraph (c)(1), remove “section 119(b)(1)(B) and (c)(3) of title 17” and add in its place “17 U.S.C. 119(b)(1)(B)” and remove “not later than” and add in its place “no later than” each place it appears.

d. In paragraph (d)(1), remove the term “U.S.”, and remove “free upon request. Requests may be mailed to the address specified in § 201.1” and add in its place “free from the Copyright Office Web site”.

e. In paragraph (d)(2), remove “Statement of Account for Secondary Transmissions by Satellite Carriers to Home Viewers” and add in its place “Form SC (Statement of Account for Secondary Transmissions by Satellite Carriers of Distant Television Signals)”.

f. In paragraphs (e)(6) and (7), remove “§ 258.3” and add in its place “§ 386.2”.

g. In paragraph (h)(3)(i), remove the second sentence and add in its place “Telephone or similar unsigned requests that meet these conditions may be permitted, where a follow-up written request detailing the same information is received by the Copyright Office within fourteen days after the required thirty-day period.”.

§ 201.12 [Amended]

13. Amend § 201.12 as follows:

a. In paragraph (a), remove “section 111(e)(2) of title 17 of the United States Code as amended by Public Law 94-553” and add in its place “17 U.S.C. 111(e)(2)”.

b. In paragraph (b), remove “§ 201.3” and add in its place “§ 201.3(e)”.

c. In paragraph (c), remove “record” from the last sentence and add in its place “recordation”.

§ 201.13 [Amended]

14. Amend § 201.13 as follows:

a. In paragraph (a), remove “section 110(4) of title 17 of the United States Code as amended by Public Law 94-553” and add in its place “17 U.S.C. 110(4)”.

b. In paragraph (d)(3), remove “a telegram” and add in its place “an email, fax,” and remove “said paragraph (e)” and add in its place “paragraph (e) of this section”.

c. In paragraph (e)(2)(iii), remove “Telegram, cablegram,” and add in its place “Email, fax,”.

§ 201.14 [Amended]

15. Amend § 201.14 as follows:

a. In paragraphs (a)(1) and (2), remove “as amended by Public Law 94-553”.

b. In paragraph (c)(2), remove “8” and add in its place “eight”.

§ 201.15 [Reserved]

16. Add and reserve § 201.15.

§ 201.16 [Amended]

17. Amend § 201.16 by removing paragraph (c)(7).

18. Amend § 201.17 as follows:

a. In paragraph (a), remove “Coypright” and add in its place “Copyright” and remove “section 111(d)(2) of title 17 of the United States Code” and add in its place “17 U.S.C. 111(d)(1)”.

b. In paragraph (b)(1), remove “Gross receipts for the” and add in its place “Gross receipts for the”.

c. In paragraph (b)(2), remove “§ 201.17 of” each place it appears and remove “section, shall be” and add in its place “section shall be”.

d. In paragraph (b)(5), remove “Section 111(f) of title 17 of the United States Code, as amended by Public Law 94-553, Public Law 103-369, and Public Law 111-175” and add in its place “17 U.S.C. 111(f), as amended by Public Laws 94-553, 103-369, and 111-175”.

e. In paragraph (b)(7), remove “translator station is,” and add in its place “translator station is”.

f. In paragraph (b)(9), remove “FCC”, ” and add in its place “FCC,” ”.

g. Revise paragraph (c)(1).

h. In paragraph (d)(1), remove the term “U.S.”, and remove “upon request. Requests may be mailed to the address specified in § 201.1” and add in its place “from the Copyright Office Web site”.

i. In paragraph (e)(5)(iii), add a period to the end of the sentence.

j. Revise paragraph (e)(7)

k. Revise paragraph (f)(3).

l. Remove paragraph (i)(1)(vi).

m. Revise paragraph (i)(3).

n. Remove paragraphs (i)(4) and (5).

o. Redesignate paragraphs (i)(6) through (10) as paragraphs (i)(4) through (8), respectively.

p. In paragraph (m)(2)(i), remove “incomplete;” and add in its place “incomplete; or”.

q. In paragraph (m)(2)(ii), remove “low; or” and add in its place “low.”.

r. Remove paragraph (m)(2)(iii).

s. In paragraph (m)(4)(i), remove the second sentence and add in its place “Telephone or similar unsigned requests that meet these conditions may be permitted, where a follow-up written request detailing the same information is received by the Copyright Office within fourteen days after the required sixty-day period.”

t. Remove paragraph (m)(4)(iii)(C).

u. In paragraph (m)(4)(iv)(A), remove the phrase “(except those filed under paragraph (m)(2)(iii) of this section)”.

v. In paragraph (m)(4)(iv)(B), remove the comma after the phrase “this paragraph (m)”.

The revisions read as follows:

§ 201.17 Statements of Account covering compulsory licenses for secondary transmissions by cable systems.

* * * * *

(c) * * *

(1) Statements of Account shall cover semiannual accounting periods of January 1 through June 30, and July 1 through December 31, and shall be deposited in the Copyright Office, together with the total royalty fee for such accounting periods as prescribed by 17 U.S.C. 111(d)(1)(B) through (F), by no later than the immediately following August 29, if the Statement of Account covers the January 1 through June 30 accounting period, and by no later than the immediately following March 1, if the Statement of Account covers the July 1 through December 31 accounting period.

(e) * * *

(7) The designation “Gross Receipts”, followed by the gross amount paid to the cable system by subscribers for the basic service of providing secondary transmissions of primary broadcast transmissions during the period covered by the Statement of Account.

(i) If the cable system maintains its revenue accounts on an accrual basis, gross receipts for any accounting period includes all such amounts accrued for secondary transmission service furnished during that period, regardless of when accrued:

(A) Less the amount of any bad debts actually written-off during that accounting period;

(B) Plus the amount of any previously written-off bad debts for secondary transmission service which were actually recovered during that accounting period.

(ii) If the cable system maintains its revenue accounts on a cash basis, gross receipts of any accounting period includes all such amounts actually received by the cable system during that accounting period.

* * * * *

(f) * * *

(3) In computing the DSE of a primary transmitter in a particular case of carriage on or after July 1, 1981, the cable system may make no prorated adjustments other than those specified in 17 U.S.C. 111(f)(5)(B), and which remain in force under that provision. Two prorated adjustments, as prescribed in that section, are permitted under certain conditions where:

(i) A station is carried on a part-time basis where full-time carriage is not possible because the cable system lacks the activated channel capacity to retransmit on a full-time basis all signals which it is authorized to carry; and

(ii) A station is carried on a “substitute” basis under rules, regulations, or authorizations of the FCC in effect on October 19, 1976 (as defined in 17 U.S.C. 111(f)(5)(B)(ii)), which permitted a cable system, at its election, to omit the retransmission of a particular program and substitute another program in its place.

* * * * *

(i) * * *

(3) It shall be presumed that the 3.75% rate of 37 CFR 308.2(c) applies to DSEs accruing from newly added distant signals, carried for the first time by a cable system after June 24, 1981. The presumption of this section can be rebutted in whole or in part:

(i) By actual carriage of a particular distant signal prior to June 25, 1981, as reported in Statements of Account duly filed with the Copyright Office (“actual carriage”), unless the prior carriage was not permitted by the FCC; or

(ii) By carriage of no more than the number of distant signals which was or would have been allotted to the cable system under the FCC's quota for importation of network and nonspecialty independent stations (47 CFR 76.59(b), 76.61 (b) and (c), and 76.63, referring to 76.61 (b) and (c), in effect on June 24, 1981).

* * * * *

§ 201.18 [Amended]

19. Amend 201.18 as follows:

a. In paragraph (a)(2), remove “his” and add in its place “the”.

b. In paragraph (a)(4) introductory text, remove “subparagraphs (ii) and (iii)” and add in its place “paragraphs (a)(4)(ii) and (iii) of this section”, and in paragraphs (a)(4)(i) and (ii), remove “that that” and add in its place “that” each place it appears.

c. In paragraph (a)(5), remove the phrase “copyright owner,” and add in its place the phrase ” “copyright owner,” ”.

d. In paragraph (b), remove “paragraph (a)(4)” and add in its place “paragraph (a)(6)”, and remove “§ 210.11(e)” and add in its place “§ 210.16(g)”.

e. In paragraph (f)(3), remove the phrase “filed by being” from the fourth sentence.

f. In paragraph (f)(4), remove “paragraph (a)(4)” and add in its place “paragraph (b)” each place it appears.

§ 201.22 [Amended]

20. Amend § 201.22 as follows:

a. In paragraphs (a)(1) and (c)(1)(i), remove “411(b)” and add in its place “411(c)”.

b. In paragraph (d)(3), remove “a telegram” and add in its place “an email, fax,”.

c. In paragraph (e)(1), remove “411(b)(1)” and add in its place “411(c)(1)”.

d. In paragraph (e)(2)(iii), remove “Telegram, cablegram,” and add in its place “Email, fax,”.

§ 201.23 [Amended]

21. Amend § 201.23 as follows:

a. In paragraph (a), remove “, as amended by Pub. L. 94-553, 90 Stat. 2541, effective January 1, 1978” and remove the phrase “, as amended by Pub. L. 94-553”.

b. In paragraph (b), remove “Provided, That:” and add in its place “provided that:”.

c. In paragraphs (b)(1) through (3), remove the phrase “, as amended by Pub. L. 94-553” wherever it appears.

§ 201.25 [Amended]

22. Amend § 201.25 as follows:

a. In paragraph (c)(1), remove “Regulatory” from the first sentence and add in its place “Registry”.

b. In paragraph (e), remove “record” from the second sentence and add in its place “recordation”.

§ 201.26 [Amended]

23. Amend § 201.26 as follows:

a. In paragraph (b), remove “Definitions-”and add in its place “Definitions. ”.

b. In paragraph (d), remove “Documents-” and add in its place “documents. ”.

c. Remove paragraph (d)(4).

d. In paragraph (f), remove “record” from the second sentence and add in its place “recordation”.

§ 201.27 [Amended]

24. Amend § 201.27(b)(3) by removing the comma following the term “cassette”.

§ 201.28 [Amended]

25. Amend § 201.28 as follows:

a. In paragraph (c)(3), remove the third and fourth sentences.

b. In paragraph (d)(1), remove “from the Licensing Division, Library of Congress” and add in its place “free from the Copyright Office Web site”, remove “Forms and other information may be requested from the Licensing Division by facsimile transmission (FAX), but copies” and add in its place “Copies” and remove “FAX” and add in its place “fax”.

c. In paragraph (e)(5), remove “facsimile (FAX)” and add in its place “fax”.

d. In paragraph (j)(3)(i), remove the third sentence and add in its place “Telephone or similar unsigned requests that meet these conditions may be permitted, where a follow-up written request detailing the same information is received by the Copyright Office within 14 days after the required 60-day period.”.

§ 201.29 [Amended]

26. Amend § 201.29 as follows:

a. In paragraph (e), remove the term “5” and add in its place the term “five”.

b. In paragraph (h)(1), remove the parentheses from the around the phrase “of the manufacturing party or importing party”.

c. In paragraph (h)(2), remove “telefax” and add in its place “fax”.

d. In paragraph (h)(6), remove the term “(AHRA)”.

§ 201.31 [Removed and reserved]

27. Remove and reserve § 201.31.

28. Amend § 201.33 as follows:

a. In paragraph (a), remove “automated database, which can be accessed over the Internet” from the last sentence and add in its place “Web site”.

b. In paragraph (b)(2)(iii), remove the phrase “the new” each place it appears.

c. In paragraph (b)(3)(iii)(A), remove “United States” and add in its place “U.S.”.

d. In paragraph (d)(3)(ii)(G), remove “Telefax number” and add in its place “Email address”.

e. In paragraph (e)(2)(i), remove “Register of Copyrights” and add in its place “U.S. Copyright Office”.

f. In paragraph (e)(2)(ii), remove “U.S.” from each place it appears in the paragraph heading and the paragraph body, and remove “§ 201.1” from the last sentence and add in its place “§ 201.1(b)”.

g. In paragraph (e)(2)(iii), remove “VISA, MasterCard and American Express” from the first sentence and add in its place “most major credit cards”.

h. Revise paragraph (f).

The revision reads as follow:

§ 201.33 Procedures for filing Notices of Intent to Enforce a restored copyright under the Uruguay Round Agreements Act.

* * * * *

(f) Public access. Notices of Intent to Enforce filed with the Copyright Office are available for public inspection and copying in the Records Research and Certification Section. Some of the information contained in these records is available on the Office's Web site, including the title of the work or a brief description if the work is untitled and the name of the copyright owner or owner of an exclusive right.

* * * * *

Appendix A to § 201.33 [Amended]

29. Amend Appendix A to § 201.33 by removing “Telefax” from item 13 and adding in its place “Fax”.

30. Amend § 201.34 as follows:

a. In paragraph (d)(3)(viii)(D), remove “telefax” and add in its place “fax”.

b. In paragraph (e), italicize “Fee—” in the paragraph heading.

c. Revise paragraph (f).

The revision reads as follows:

§ 201.34 Procedures for filing Correction Notices of Intent to Enforce a Copyright Restored under the Uruguay Rounds Agreement Act.

* * * * *

(f) Public access. Correction Notices of Intent to Enforce filed with the Copyright Office are available for public inspection and copying in the Records Research and Certification Section.

* * * * *

§ 201.38 [Amended]

31. Amend § 201.38 in paragraph (e) by removing “§ 201.1” from the first sentence and adding in its place “§ 201.1(c)(3)” and by removing the sentence “If mailed, the Interim Designation should be addressed to: Copyright GC/I&R, PO Box 70400, Washington, DC 20024.”.

§ 201.39 [Amended]

32. Amend § 201.39 as follows:

a. In paragraph (g)(1), italicize the paragraph heading “Method of filing.”.

b. In paragraph (g)(3)(i), remove “Register of Copyrights” and add in its place “U.S. Copyright Office”.

c. In paragraph (g)(3)(ii), remove “U.S.” from each place it appears in the paragraph heading and the paragraph body and remove “§ 201.1” and add in its place “§ 201.1(b)”.

PART 202—PREREGISTRATION AND REGISTRATION OF CLAIMS TO COPYRIGHT

33. The authority citation for part 202 continues to read as follows:

Authority: 17 U.S.C. 408(f), 702.

§ 202.2 [Amended]

34. Amend § 202.2 as follows:

a. In paragraph (b)(2), remove “his” and add in its place “the producer's”.

b. In paragraph (b)(5), remove “his name” and add in its place “that person's name”.

c. Redesignate paragraphs (b)(6)(i) through (iii) as paragraphs (b)(6)(i)(A) through (C), respectively, redesignate the introductory text of paragraph (b)(6) as (b)(6)(i), and designate the undesignated text preceding paragraph (b)(7) as (b)(6)(ii).

d. In newly redesignated paragraph (b)(6)(i)(C), remove “Provided, however, That” and add in its place “Provided, however, that” and remove “three foregoing types of cases” and add in its place “three types of cases described in paragraphs (b)(6)(i)(A) through (C) of this section”.

§ 202.3 [Amended]

35. Amend § 202.3 as follows:

a. In paragraph (a)(1), remove the phrase “, as amended by Public Law 94-553”.

b. In paragraph (b)(1)(v), italicize the paragraph heading “Class SE: Serials.”.

c. In paragraph (b)(2)(i)(A), remove ” [www.copyright.gov]” and add in its place “(www.copyright.gov)”.

d. In paragraph (b)(2)(i)(D), remove the phrase “a remitter” and add in its place the phrase “an applicant”.

e. In paragraph (b)(2)(ii)(C), remove “the type of authorship that predominates” from the fourth sentence and add in its place “the predominant type of authorship”.

f. In paragraph (b)(2)(ii)(D), remove ” [www.copyright.gov]” and add in its place “(www.copyright.gov)”.

g. In paragraph (b)(6)(v), remove “under 408(c)(1) of title 17” and add in its place “under 17 U.S.C 408(c)(1)”.

h. In paragraph (b)(8)(i), remove the phrase “, as amended by Public Law 94-553”.

§ 202.4 [Removed and reserved]

36. Remove and reserve § 202.4.

§ 202.5 [Amended]

37. Amend § 202.5 as follows:

a. In paragraph (a), remove the term “hull”.

b. In paragraph (b)(2), remove “§ 201.3(d)(3)(i)” and add in its place “§ 201.3(d)”.

c. In paragraph (b)(3), remove “Registration Program written notice” and add in its place “written notice from the Registration Program” and remove the term “initial”.

d. In paragraph (c)(2), remove “§ 201.3(d)(3)(ii)” and add in its place “§ 201.3(d)”.

e. In paragraph (d)(1), remove “§ 201.1” and add in its place “§ 201.1(c)(4)”.

f. In paragraph (e), remove “wavier” from the paragraph heading and add in its place “waiver”.

38. Amend § 202.12 as follows:

a. In paragraph (b)(1), italicize the terms “restored work” and “source country”, and remove the term “the URAA” and add in its place the phrase “17 U.S.C. 104(A)(g)(6) and (8)”.

b. Revise paragraph (c)(1).

c. Remove paragraph (c)(2).

d. Redesignate paragraphs (c)(3) and (4) as paragraphs (c)(2) and (3), respectively.

e. In newly redesignated paragraph (c)(2)(ii)(A), remove “Register of Copyrights” and add in its place “U.S. Copyright Office”.

f. In newly redesignated paragraph (c)(2)(ii)(B), remove “U.S.” from each place it appears in the paragraph heading and the paragraph body.

g. In newly redesignated paragraph (c)(2)(ii)(C), remove “URAA” and add in its place “GATT” and remove “VISA, MasterCard, and American Express” and add in its place “most major credit cards”.

h. In newly redesignated paragraph (c)(3)(i), remove “the amended section 104A” and add in its place “17 U.S.C. 104A” and remove “paragraphs (c)(4) (ii)” and add in its place “paragraphs (c)(3)(ii)”.

i. In newly redesignated paragraph (c)(3)(iv), remove “paragraph (c)(4)(i)” and add in its place “paragraph (c)(3)(i)”.

j. In newly redesignated paragraph (c)(3)(v), remove “may seek an alternative deposit under special relief (37 CFR 202.20(d))” and add in its place “may submit an alternative deposit under a grant of special relief under § 202.20(d)”.

k. In newly redesignated paragraph (c)(3)(vi), remove “telefax” and add in its place “fax”.

l. In paragraph (d), remove “copyrights” and add in its place “works”.

The revision reads as follows:

§ 202.12 Restored copyrights.

* * * * *

(c) Registration—(1) Application. Applications for registration for single works restored to copyright protection under the URAA should be made on Form GATT. Copies of this form may be obtained from the Office's Web site or by contacting the Public Information Office at (202) 707-3000. Applicants should submit the completed application with the appropriate filing fee and deposit copies and materials required by paragraph (c)(3) of this section in the same package by mail.

* * * * *

§ 202.16 [Amended]

39. Amend § 202.16 as follows:

a. In paragraph (a), remove “Section 408(f) of 17 U.S.C.” and add in its place “17 U.S.C. 408(f).”.

b. Revise paragraph (c)(3).

c. In paragraph(c)(5)(ii)(A), italicize the paragraph heading “Copyright Office deposit account.”

d. In paragraph (c)(5)(ii)(B), italicize the paragraph heading “Credit cards, debit cards and electronic funds transfer.”

e. In paragraph (c)(5)(ii)(C), italicize the paragraph heading “No refunds.”

f. Revise paragraph (c)(6)(i) and paragraphs (c)(6)(iii) through (v).

h. In paragraph (c)(6)(vi), remove the last sentence and add in its place “The description may also explain the general presentation (e.g., the lighting, background scenery, positioning of elements of the subject matter as it is seen in the photographs), and should provide any locations and events, if applicable, associated with the photographs.”

i. Revise paragraph (c)(10).

j. In paragraph (c)(11), remove “Information and Records Division” and add in its place “Office of Public Information and Education”.

k. Revise paragraph (c)(12).

The revisions read as follows:

§ 202.16 Preregistration of copyrights.

* * * * *

(c) * * *

(3) Application. An application for preregistration must be submitted electronically on the Copyright Office Web site at: http://www.copyright.gov.

* * * * *

(6) * * *

(i) For motion pictures, the identifying description should include the following information to the extent known at the time of filing: The subject matter, a summary or outline, the director, the primary actors, the principal location of filming, and any other information that would assist in identifying the particular work being preregistered.

* * * * *

(iii) For musical compositions, the identifying description should include the following information to the extent known at the time of filing: The subject matter of the lyrics, if any; the genre of the work (e.g., classical, pop, musical comedy, soft rock, heavy metal, gospel, rap, hip-hop, blues, jazz); the performer, principal recording location, record label, motion picture, or other information relating to any sound recordings or motion pictures that are being prepared for commercial distribution and will include the musical composition; and any other detail or characteristic that may assist in identifying the particular musical composition.

(iv) For literary works in book form, the identifying description should include to the extent known at the time of filing: The genre of the book (e.g., biography, novel, history, etc.), and should include a brief summary of the work including, the subject matter (e.g., a biography of President Bush, a history of the war in Iraq, a fantasy novel); a description (where applicable) of the plot, primary characters, events, or other key elements of the content of the work; and any other salient characteristics of the book (e.g., whether it is a later edition or revision of a previous work, as well as any other detail which may assist in identifying the literary work in book form).

(v) For computer programs (including videogames), the identifying description should include to the extent known at the time of filing: The nature, purpose and function of the computer program, including the programming language in which it is written and any particular organization or structure in which the program has been created; the form in which it is expected to be published (e.g., as an online-only product; whether there have been previous versions and identification of such previous versions); the identities of persons involved in the creation of the computer program; and, if the work is a videogame, also the subject matter of the videogame and the overall object, goal, or purpose of the game, its characters, if any, and the general setting and surrounding found in the game.

* * * * *

(10) Notification of preregistration. Upon completion of the preregistration, the Copyright Office will email an official notification of the preregistration to the person who submitted the application.

* * * * *

(12) Public record of preregistration. The preregistration record also will be made available to the public on the Copyright Office Web site at: http://www.copyright.gov.

* * * * *

§ 202.17 [Amended]

40. Amend § 202.17 as follows:

a. In paragraph (b)(1), remove “[as” and add in its place “(as” and remove “(C)]” and add in its place “(C))”.

b. In paragraph (c)(2), remove “409(11),” and add in its place “409(10),”.

c. In the heading to paragraph (e), remove “Section” and add in its place “section”.

d. In paragraph (e)(2), remove “name[s]” and add in its place “name(s)” each place it appears, remove “claimant[s]” and add in its place “claimant(s)” each place it appears, and remove “sixty-seven year” and add in its place “67-year”.

e. In paragraph (e)(3), remove “(b)(4)” and add in its place “(b)(3)”.

f. In paragraph (f)(2), remove “(f)(1)(i)” and add in its place “(f)(1)”.

g. In paragraph (g)(1), remove “U.S. Copyright Office homepage at http://www.copyright.gov” from the second sentence and add in its place “Copyright Office Web site at: http://www.copyright.gov”, remove “Request.” and add in its place “request.”, and remove “§ 201.1” and add in its place “§ 201.1(b)”.

h. In paragraph (h)(3)(vii), remove “[effective” and add in its place “(effective” and remove “1988]” and add in its place “1988)”.

41. Amend § 202.19 as follows:

a. In paragraph (a), remove “, as amended by Public Law 94-553” and remove “of these regulations”.

b. Revise paragraph (b)(2).

c. In paragraph (b)(4), remove “§ 202.19(c)(5) of this regulation” and add in its place “paragraph (c)(5) of this section”.

d. In paragraphs (c)(5) and (d)(2)(iii)(B), and (d)(2)(iv), remove “of these regulations” wherever it occurs.

e. Revise paragraph (d)(2)(iv).

f. In paragraph (d)(2)(vi), remove the comma after the term “kits”.

g. In paragraph (e)(1)(iv), remove the phrase “of these regulations”.

h. In paragraph (e)(3), remove “for Registration Program” and add in its place “of Copyrights and Director of the Office of Registration Policy and Practice”.

i. In paragraph (f)(1), remove “on the application” and remove “of these regulations”.

The revisions read as follows:

§ 202.19 Deposit of published copies or phonorecords for the Library of Congress.

* * * * *

(b) * * *

(2) A complete copy includes all elements comprising the unit of publication of the best edition of the work, including elements that, if considered separately, would not be copyrightable subject matter or would otherwise be exempt from the mandatory deposit requirement under paragraph (c) of this section.

(i) In the case of sound recordings, a “complete” phonorecord includes the phonorecord, together with any printed or other visually perceptible material published with such phonorecord (such as textual or pictorial matter appearing on record sleeves or album covers, or embodied in leaflets or booklets included in a sleeve, album, or other container).

(ii) In the case of a musical composition published in copies only, or in both copies and phonorecords:

(A) If the only publication of copies in the United States took place by the rental, lease, or lending of a full score and parts, a full score is a “complete” copy; and

(B) If the only publication of copies in the United States took place by the rental, lease, or lending of a conductor's score and parts, a conductor's score is a “complete” copy.

(iii) In the case of a motion picture, a copy is “complete” if the reproduction of all of the visual and aural elements comprising the copyrightable subject matter in the work is clean, undamaged, undeteriorated, and free of splices, and if the copy itself and its physical housing are free of any defects that would interfere with the performance of the work or that would cause mechanical, visual, or audible defects or distortions.

(iv) In the case of an electronic work published in the United States and available only online, a copy is “complete” if it includes all elements constituting the work in its published form, i.e., the complete work as published, including metadata and formatting codes otherwise exempt from mandatory deposit.

* * * * *

(d) * * *

(2) * * *

(iv) In any case where an individual author is the owner of copyright in a published pictorial or graphic work and:

(A) Less than five copies of the work have been published; or

(B) The work has been published and sold or offered for sale in a limited edition consisting of no more than three hundred numbered copies, the deposit of one complete copy of the best edition of the work or, alternatively, the deposit of photographs or other identifying material in compliance with § 202.21, will suffice in lieu of the two copies required by paragraph (d)(1) of this section.

* * * * *

42. Amend § 202.20 as follows:

a. In paragraph (a), remove “, as amended by Public Law 94-553” and remove “of these regulations”.

b. In paragraph (b)(1), remove “The” and add in its place “The”.

c. In paragraph (b)(2)(ii), remove “(b)(2) (iv)” and add in its place “(b)(2)(iv)”.

d. Revise paragraph (b)(2)(iii).

e. In paragraph (b)(2)(v), remove “§ 202.19(b)(2) of these regulations;” and add in its place “§ 202.19(b)(2)(i).”.

f. In paragraph (b)(2)(vi)(B), remove the term “copy;” and add in its place the term “copy.”.

g. In paragraph (b)(6), remove “§ 202.20” and add in its place “section” and remove the term “as”.

h. In paragraph (c)(2)(i)(G), remove “(c)(2)(xi)(B)(5)” and add in its place “(c)(2)(xi)(B)”.

i. In paragraphs (c)(2)(ii), (c)(2)(iii)(B), (c)(2)(iv), and (c)(2)(v), remove the phrase “of these regulations” each place it appears.

j. In paragraph (c)(2)(vii)(A)(2), remove “units, entire” and add in its place “units, the entire” and remove “proportinately” and add in its place “proportionately”.

k. In paragraphs (c)(2)(viii)(A) and (c)(2)(x), remove the phrase “of these regulations” each place it appears.

l. In paragraph (c)(2)(xi)(A), remove “of these regulations” and add in its place “of this chapter”.

m. In paragraphs (c)(2)(xii) and (c)(2)(xiii), remove the phrase “of these regulations” each place it appears.

n. In paragraph (c)(2)(xvi), remove “the deposit phonorecord” and add in its place “the phonorecord”.

o. In paragraph (c)(2)(xviii)(A), add footnote 6 after the first sentence, and designate the undesignated text after paragraph (c)(2)(xviii)(A)(4) as the text to footnote 6 with a superscript “6” preceding the text.

p. In paragraph (c)(2)(xviii)(B), remove the phrase “of these regulations” and add footnote 7 after the second sentence. Designate the undesignated text after paragraph (c)(2)(xviii)(B)(4) as the text to footnote 7 with a superscript “7” preceding the text.

q. In paragraphs (d)(1)(iv) and (d)(3), remove “of these regulations” each place it appears.

r. In paragraph (d)(3), remove “for Registration Program of the Copyright Office” and add in its place “of Copyrights and Director of the Office of Registration Policy and Practice”.

s. In paragraph (e), remove “section 407 of title 17 and § 202.19 of these regulations” and add in its place “17 U.S.C. 407 and § 202.19”, remove “of claim” and add in its place “of a claim”, and remove the phrase “on the application”.

The revision reads as follows:

§ 202.20 Deposit of copies and phonorecords for copyright registration.

* * * * *

(b) * * *

(2) * * *

(iii) Works submitted for registration in digital formats. A “complete” electronically filed work is one which is embodied in a digital file which contains:

(A) If the work is unpublished, all authorship elements for which registration is sought; and

(B) If the work is published solely in an electronic format, all elements constituting the work in its published form, i.e., the complete work as published, including metadata and authorship for which registration is not sought. Publication in an electronic only format requires submission of the digital file(s) in exact first-publication form and content.

(C) For works submitted electronically, any of the following file formats are acceptable for registration: PDF, TXT, WPD, DOC, TIF, SVG, JPG, XML, HTML, WAV, and MPEG family of formats, including MP3. This list of file formats is non-exhaustive and it may change, or be added to periodically. Changes will be noted in the list of acceptable formats on the Copyright Office Web site.

(D) Contact with the registration applicant may be necessary if the Copyright Office cannot access, view, or examine the content of any particular digital file that has been submitted for the registration of a work. For purposes of 17 U.S.C. 410(d), a deposit has not been received in the Copyright Office until a copy that can be reviewed by the Office is received.

* * * * *

§ 202.21 [Amended]

43. Amend § 202.21 as follows:

a. In paragraph (a), remove “and to” from the first sentence and add in its place “and” and remove the phrase “of these regulations”.

b. In paragraph (g)(1)(i), remove “and description” and add in its place “and a description”.

c. In paragraph (h), remove the phrase “of these regulations”.

§ 202.22 [Amended]

44. Amend § 202.22 in paragraph (f)(1)(i) by removing the phrase “not later than” and adding in its place the phrase “no later than”.

§ 202.23 [Amended]

45. Amend § 202.23 as follows:

a. In paragraph (a)(1), remove “708(a)(11)” and add in its place “708(a)”.

b. In paragraph (b)(2), remove “Chief, Information and Records Division of the Copyright Office,” add in its place “Director of the Office of Public Records and Repositories at the address specified in § 201.1(b)(1) of this chapter,”, and remove “(i)” and “(ii)”.

c. In paragraph (c)(2), remove the word “of” after “§ 202.20”.

d. In paragraph (e)(1), remove “708(a)(11)” and add in its place “708(a)” and add “of this chapter” after “§ 201.3(d)”.

e. In paragraph (e)(2), add “of this chapter” after “§ 201.3(d)” and remove “Register of Copyrights” and add in its place “U.S. Copyright Office”.

§ 202.24 [Amended]

46. Amend § 202.24 as follows:

a. In paragraphs (a)(1), (c)(1), and (c)(2) by removing “of these regulations”.

b. In paragraph (d)(1)(i) by removing “section 407(d) of Title 17” and adding in its place “17 U.S.C. 407(d)”.

Appendix B to Part 202 [Amended]

47 Amend Appendix B to Part 202 as follows:

a. In the introductory text, designate the five undesignated paragraphs as a., b., c., d., and e., respectively.

b. In paragraph III.A., add a colon to the end of the term “Film” and add periods to the ends of paragraphs III.A.1. through III.A.4.

c. In paragraph III.B., add a colon to the end of the words “Video Formats” and add periods to the ends of paragraphs III.B.1. through III.B.4.

d. In paragraph VI.A.1., remove “Vocal music:” and add in its place “Vocal music:”.

e. In paragraph VI.A.1.a., remove “accompaniment—” and add in its place “accompaniment:”.

f. In paragraph VI.A.2., remove “Instrumental music:” and add in its place “Instrumental music:”.

g. In paragraph VIII.A., add a colon to the end of the word “Programs”.

h. In paragraph VIII.A.3., remove “Format:” and add in its place “Format:”.

i. In paragraph VIII.B.4., remove “Format” and add in its place “Format:”.

j. In paragraph IX.A., add a colon to the end of the word “Serials”.

k. In paragraph IX.A.1., add a colon to the end of the word “Format”.

PART 203—FREEDOM OF INFORMATION ACT: POLICIES AND PROCEDURES

48. The authority citation for part 203 continues to read as follows:

Authority: 17 U.S.C. 702, 5 U.S.C. 552, as amended.

49. Revise § 203.2 to read as follows:

§ 203.2 Authority and functions.

The administration of the copyright law was entrusted to the Library of Congress by an act of Congress in 1870, and the Copyright Office has been a separate department of the Library since 1897. The statutory functions of the Copyright Office are contained in and carried out in accordance with the Copyright Act.

50. Amend § 203.3 as follows:

a. Revise paragraphs (a) through (d).

b. Redesignate paragraphs (e) through (g) as paragraphs (i) through (k), respectively.

c. Add new paragraphs (e) through (g).

d. Revise paragraph (h).

e. In newly redesignated paragraph (j), remove “Avenue, SE, Washington, DC” and add in its place “Avenue SE., Washington, DC”.

f. Add paragraph (l).

The revisions and additions read as follows:

§ 203.3 Organization.

(a) The Office of the Register of Copyrights has overall responsibility for the Copyright Office and its statutory mandate, specifically: For legal interpretation of the copyright law; administering the provisions of title 17 of the U.S.C.; promulgating copyright regulations; advising Congress and other government officials on domestic and international copyright policy and other intellectual property issues; determining personnel and other resource requirements for the Office; organizing strategic and annual program planning; and preparing budget estimates for inclusion in the budget of the Library of Congress and U.S. Government.

(b) The Office of the Chief of Operations is headed by the Chief of Operations (“COO”), who advises the Register on core business functions and coordinates and directs the day-to-day operations of the Copyright Office. The Office of the COO supervises financial controls, budget, human capital, statutory royalty investments, mandatory deposits and acquisitions, contracts, and strategic planning functions. This Office interacts with every other senior management office that reports to the Register and frequently coordinates and assesses institutional projects. The COO chairs the Copyright Office's operations committee. The following divisions fall under the oversight of the COO:

(1) The Receipt Analysis and Control Division is responsible for sorting, analyzing, and scanning incoming mail; creating initial records; labeling materials; and searching, assembling, and dispatching electronic and hardcopy materials and deposits to the appropriate service areas. The Division is responsible for operating the Copyright Office's central print room, mail functions, and temporary storage. The Division also processes all incoming fees and maintains accounts, related records, and reports involving fees received.

(2) The Licensing Division administers certain statutory licenses set forth in the Copyright Act. The Division collects royalty payments and examines statements of account for the cable statutory license (17 U.S.C. 111), the satellite statutory license for retransmission of distant television broadcast stations (17 U.S.C. 119), and the statutory license for digital audio recording technology (17 U.S.C. chapter 10). The Division also accepts and records documents associated with the use of the mechanical statutory license (17 U.S.C. 115).

(3) The Copyright Acquisitions Division administers the mandatory deposit requirements of the Copyright Act, acting as an intermediary between copyright owners of certain published works and the acquisitions staff in the Library of Congress. 17 U.S.C. 407. This Office creates and updates records for the copies received by the Copyright Office; demands particular works or particular formats of works as necessary; and administers deposit agreements between the Library and copyright owners.

(c) The Office of the General Counsel is headed by the General Counsel and Associate Register of Copyrights, who is an expert copyright attorney and one of four legal advisors to the Register. This Office assists the Register in carrying out critical work of the Copyright Office regarding the legal interpretation of the copyright law. The General Counsel liaises with the Department of Justice, other federal departments, and the legal community on a wide range of copyright matters including litigation and the administration of title 17 of the U.S.C. The General Counsel also has primary responsibility for the formulation and promulgation of regulations and the adoption of legal positions governing policy matters and the practices of the Copyright Office.

(d) The Office of Policy and International Affairs is headed by the Associate Register of Copyrights and Director of Policy and International Affairs, who is an expert copyright attorney and one of four legal advisors to the Register. This Office assists the Register with critical policy functions of the Copyright Office, including domestic and international policy analyses, legislative support, and trade negotiations. Policy and International Affairs represents the Copyright Office at meetings of government officials concerned with the international aspects of intellectual property protection, and provides regular support to Congress and its committees on statutory amendments and construction.

(e) The Office of Registration Policy and Practice is headed by the Associate Register of Copyrights and Director of Registration Policy and Practice, who is an expert copyright attorney and one of four legal advisors to the Register. This Office administers the U.S. copyright registration system and advises the Register of Copyrights on questions of registration policy and related regulations and interpretations of copyright law. This Office has three divisions: Literary, Performing Arts, and Visual Arts. It also has a number of specialized sections, for example, in the area of motion pictures. This Office executes major sections of the Compendium of Copyright Office Practices, particularly with respect to the examination of claims and related principles of law.

(f) The Office of Public Information and Education is headed by the Associate Register for Public Information and Education, who is an expert copyright attorney and one of four legal advisors to the Register. This Office informs and helps carry out the work of the Register and the Copyright Office in providing authoritative information about the copyright law to the public and establishing educational programs. The Office publishes the copyright law and other provisions of title 17 of the U.S.C.; maintains a robust and accurate public Web site; creates and distributes a variety of circulars, information sheets, and newsletters, including NewsNet; responds to public inquiries regarding provisions of the law, explaining registration policies, procedures, and other copyright-related topics upon request; plans and executes a variety of educational activities; and engages in outreach with various copyright community stakeholders.

(g) The Office of Public Records and Repositories is headed by the Director, who is an expert in public administration and one of the Register's top business advisors. This Office is responsible for carrying out major provisions of title 17 of the U.S.C., including establishing records policies; ensuring the storage and security of copyright deposits, both analog and digital; recording licenses and transfers of copyright ownership; preserving, maintaining, and servicing copyright-related records; researching and providing certified and non-certified reproductions of copyright deposits; and maintaining the official records of the Copyright Office. Additionally, the Office engages regularly in discussions with leaders in the private and public sectors regarding issues of metadata, interoperability, data management, and open government.

(h) The Office of the Chief Information Officer is headed by the Chief Information Officer (“CIO”), who is the Register's top advisor on the development and implementation of technology policy and infrastructure. The Office of the CIO provides strategic leadership and direction for necessary planning, design, development, and implementation of the Copyright Office's automated initiatives. The Office of the CIO is a liaison to the central technology office of the Library of Congress, which administers the Copyright Office's networks and communications. The CIO also supervises the Copyright Technology Office. The Copyright Technology Office maintains certain Copyright Office enterprise-wide IT systems for registration, recordation, public records management and access, and related public services, as well as certain internal and external help-desk functions.

* * * * *

(l) The U.S. Copyright Office makes certain documents and records available to the public in electronic format pursuant to 5 U.S.C. 552(a)(2). Copyright Office records in machine-readable form cataloged from January 1, 1978, to the present, including information regarding registrations and recorded documents, are available on the Office's Web site. Frequently requested Copyright Office circulars, announcements, recently proposed regulations, as well as final regulations are also available on the Office's Web site. The address for the Office's Web site is www.copyright.gov.

§ 203.4 [Amended]

51. Amend § 203.4 as follows:

a. In paragraph (c), remove “Avenue, SE” and add in its place “Avenue SE.”.

b. In paragraph (d), remove from the second sentence “, Information and Publications Section, Information and Reference Division, Copyright Office, Library of Congress, Washington, DC 20559-6000,” and add in its place “at the address specified in § 201.1(c)(1) of this chapter”, remove “Avenue, SE,” and add in its place “Avenue SE.,” and remove in the last sentence “Office response” and add in its place “Office's response”.

c. Revise paragraphs (f) and (g).

d. In paragraph (i)(2), remove “ten (10)” and add in its place “10”.

The revisions read as follows:

§ 203.4 Methods of operation.

* * * * *

(f) The Office will respond to all properly marked mailed requests and all personally delivered written requests for records within 20 working days of receipt by the Supervisory Copyright Information Specialist. If it is determined that an extension of time greater than 10 working days is necessary to respond to a request due to unusual circumstances, as defined in paragraph (h) of this section, the Supervisory Copyright Information Specialist shall so notify the requester and give the requester the opportunity to:

(1) Limit the scope of the request so that it may be processed within 20 working days, or

(2) Arrange with the Office an alternative time frame for processing the request or a modified request.

(g) If a request is denied, the written notification will include the basis for the denial, names of all individuals who participated in the determination, and procedures available to appeal the determination. If a requester wishes to appeal a denial of some or all of his or her request for information, he or she must make an appeal in writing within 30 calendar days of the date of the Office's denial. The request should be directed to the General Counsel of the United States Copyright Office at the address specified in § 201.1(c)(1) of this chapter. The appeal should be clearly labeled “Freedom of Information Act Appeal.” The appeal shall include a statement explaining the basis for the appeal. Determinations of appeals will be set forth in writing and signed by the General Counsel or his or her delegate within 20 working days. If, on appeal, the denial is upheld in whole or in part, the written determination will include the basis for the appeal denial and will also contain a notification of the provisions for judicial review and the names of the persons who participated in the determination.

* * * * *

§ 203.6 [Amended]

52. Amend § 203.6 as follows:

a. In paragraph (a), remove “themseleves” from the last sentence and add in its place “themselves”.

b. In paragraph (e),

1. Form the first sentence, remove “amoun t” and add in its place “amount”, remove “praticable” and add in its place “practicable”, remove “his willingness” and add in its place “a willingness”,

2. From the last sentence, remove “offer him” and add in its place “offer the requester”, remove “his request” and add in its place “the request”, and remove the “his needs” and add in its place “the requester's needs”.

PART 204—PRIVACY ACT: POLICIES AND PROCEDURES

53. The authority citation continues to read as follows:

Authority: 17 U.S.C. 702, 5 U.S.C. 552(a).

§ 204.4 [Amended]

54. Amend § 204.4 as follows:

a. In paragraph (a), remove “Copyright Information Section, Copyright GC/I&R, P.O. Box 70400,, Washington, DC 20024” and add in its place “U.S. Copyright Office, P.O. Box 70400, Washington, DC 20024-0400”.

b. In paragraph (b), remove “Office” and add in its place “Office's”.

c. In paragraph (d), remove “Records” and add in its place “records”.

§ 204.5 [Amended]

55. Amend § 204.5 as follows:

a. In paragraph (a), remove “Copyright Information Section, Copyright GC/I&R” and add in its place “U.S. Copyright Office”, remove “20024” and add in its place “20024-0400”, and remove the phrase “Avenue, SE” and add in its place the phrase “Avenue SE.”.

b. In paragraph (b), remove “Office” and add in its place “Office's”.

§ 204.7 [Amended]

56. Amend § 204.7 as follows:

a. In paragraph (a), remove “Copyright Information Section, Copyright GC/I&R” and add in its place “U.S. Copyright Office”, remove “20024” and add in its place “20024-0400” and remove “Avenue, SE” and add in its place “Avenue SE.”.

b. In paragraph (b), remove “for Office response” and add in its place “for the Office's response”, remove “section 408(d) of Public Law 94-553” and add in its place “17 U.S.C. 408(d)” and remove “, the Office response” and add in its place “, the Office's response”.

57. Revise § 204.8 to read as follows:

§ 204.8 Appeal of refusal to correct or amend an individual's record.

(a) An individual who disagrees with a refusal of the Copyright Office to amend his or her record may request a review of the denial. The individual should submit a written appeal to the General Counsel of the United States Copyright Office at the address specified in § 201.1(c)(1) of this chapter. Appeals, and the envelopes containing them, should be plainly marked “Privacy Act Appeal.” Failure to so mark the appeal may delay the General Counsel's response. An appeal should contain a copy of the request for amendment or correction and a copy of the record alleged to be untimely, inaccurate, incomplete, or irrelevant.

(b) The General Counsel will issue a written decision granting or denying the appeal within 30 working days after receipt of the appeal unless, after showing good cause, the General Counsel extends the 30-day period. If the appeal is granted, the requested amendment or correction will be made promptly. If the appeal is denied, in whole or in part, the General Counsel's decision will set forth reasons for the denial. Additionally, the decision will advise the requester that he or she has the right to file with the Copyright Office a concise statement of his or her reasons for disagreeing with the refusal to amend the record and that such statement will be attached to the requester's record and included in any future disclosure of such record. If the requester is dissatisfied with the agency's final determination, the individual may bring a civil action against the Office in the appropriate United States district court.

PART 205—LEGAL PROCESSES

58. The authority citation for part 205 continues to read as follows:

Authority: 17 U.S.C. 702.

59. Revise § 205.1 to read as follows:

§ 205.1 Definitions.

For the purpose of this part:

Demand means an order, subpoena or any other request for documents or testimony for use in a legal proceeding.

Document means any record or paper held by the Copyright Office, including, without limitation, official letters, deposits, recordations, registrations, publications, or other material submitted in connection with a claim for registration of a copyrighted work.

Employee means any current or former officer or employee of the Copyright Office, as well as any individual subject to the jurisdiction, supervision, or control of the Copyright Office.

General Counsel, unless otherwise specified, means the General Counsel and Associate Register of Copyrights or his or her designee.

Legal proceeding means any pretrial, trial, and post-trial stages of existing or reasonably anticipated judicial or administrative actions, hearings, investigations, or similar proceedings before courts, commissions, boards or other tribunals, foreign or domestic. This phrase includes all phases of discovery as well as responses to formal or informal requests by attorneys or others involved in legal proceedings. This phrase also includes state court proceedings (including grand jury proceedings) and any other state or local legislative and administrative proceedings.

Office means the Copyright Office, including any division, section, or operating unit within the Copyright Office.

Official business means the authorized business of the Copyright Office.

Testimony means a statement in any form, including a personal appearance before a court or other legal tribunal, an interview, a deposition, an affidavit or declaration under penalty of perjury pursuant to 28 U.S.C. 1746, a telephonic, televised, or videotaped statement or any response given during discovery or similar proceeding, which response would involve more than the production of documents, including a declaration under 35 U.S.C. 25 or a declaration under penalty of perjury pursuant to 28 U.S.C. 1746.

United States means the Federal Government, its departments and agencies, individuals acting on behalf of the Federal Government, and parties to the extent they are represented by the United States.

§ 205.2 [Amended]

60. Amend § 205.2 as follows:

a. In paragraph (a), remove “, Copyright GC/I&R, P.O. Box 70400, Washington, DC 20024-0400” and add in its place “at the address specified in § 201.1(c)(1) of this chapter”.

b. In paragraph (b), remove the comma after “Avenue”.

§§ 205.6 through 205.10 [Reserved]

61. Add and reserve §§ 205.6 through 205.10 to subpart A.

§ 205.11 [Amended]

62. Amend § 205.11 in paragraph (a) by removing “Office response” from the fourth sentence and adding in its place “the Office's response”.

§ 205.13 [Amended]

63. Amend § 205.13 by removing “, GC/I&R, P.O. Box 70400, Washington, DC 20024-0400” and adding in its place “at the address specified in § 201.1(c)(1) of this chapter” and by removing the comma after “Avenue”.

§§ 205.14 through 205.20 [Reserved]

64. Add and reserve §§ 205.14 through 205.20 to subpart B.

§ 205.22 [Amended]

65. Amend § 205.22 as follows:

a. In paragraph (a)(2), remove “(e.g., 37 CFR, Chapter II; Compendium II, Compendium of Copyright Office Practices” and add in its place “(e.g., 37 CFR, Chapter II; Compendium of U.S. Copyright Office Practices, Third Edition”, and remove “Copyright General Counsel” and add in its place “General Counsel of the Copyright Office”.

b. In paragraph (b), remove “Counsel, no” and add in its place “Counsel of the Copyright Office, no” and remove “Copyright General Counsel” and add in its place “General Counsel of the Copyright Office”.

c. In paragraph (c), remove “Copyright Office General Counsel” and add in its place “General Counsel of the Copyright Office” and remove “Copyright General Counsel” and add in its place “General Counsel”.

d. In paragraph (f), remove the colon from the end of the paragraph heading, add in its place a period, and wrap up the next paragraph (f)(1).

§ 205.23 [Amended]

66. Amend § 205.23 as follows:

a. Redesignate paragraph (b)(4) as paragraph (c).

b. In newly redesignated paragraph (c), remove “these limitations” and add in its place “the limitations set forth in paragraph (b) of this section” and remove “of this part”.

PART 210—COMPULSORY LICENSE FOR MAKING AND DISTRIBUTING PHYSICAL AND DIGITAL PHONORECORDS FOR NONDRAMATIC MUSICAL WORKS

67. The authority citation for part 210 continues to read as follows:

Authority: 17 U.S.C. 115, 702.

§ 210.15 [Amended]

68. Amend § 210.15 introductory text by removing the term “Permanently” and adding in its place the term “permanently”.

§ 210.17 [Amended]

69. Amend § 210.17 as follows:

a. In paragraph (d)(3)(ix), remove “Compact” and add in its place “compact” and remove “Limited” and add in its place “limited”.

b. In paragraph (h), remove “6” from the second sentence and add in its place “six”.

PART 211—MASK WORK PROTECTION

70. The authority citation for part 211 is revised to read as follows:

Authority: 17 U.S.C. 702, 908.

§ 211.1 [Amended]

71. Amend § 211.1 in paragraph (a), by removing “shall be addressed to: Library of Congress, Department MW, Washington, DC 20540” and adding in its place “should be sent to the address specified in § 201.1(b) of this chapter”.

73. Amend § 211.4 by revising paragraph (b)(1), the introductory text of paragraph (d), and paragraph (d)(2) to read as follows:

§ 211.4 Registration of claims of protection in mask works.

* * * * *

(b) * * *

(1) For purposes of registration of mask work claims, the Register of Copyrights has designated “Form MW” to be used for all applications. Copies of the form are available free from the Copyright Office Web site or upon request to the Copyright Information Section, U.S. Copyright Office, Library of Congress, Washington, DC 20559-6000.

* * * * *

(d) Registration as a single work. Subject to the exception specified in paragraph (c)(2) of this section, for purposes of registration on a single application and upon payment of a single fee, the following shall be considered a single work:

* * * * *

(2) In the case of a mask work that has been commercially exploited: All original mask work elements fixed in a semiconductor chip product at the time that product was first commercially exploited and in which the owner or owners of the mask work is or are the same.

* * * * *

74. Amend § 211.5 as follows:

a. In paragraph (b), remove “of these regulations” and in paragraph (b)(2)(i), remove the space between “(b)(1)” and “(i)”.

b. Revise paragraphs (c)(1) and (2).

c. In paragraph (d), remove “granted.,” and add in its place “granted.” and remove “for Registration Program, Library of Congress, Copyright Office—RPO, 101 Independence Avenue, SE, Washington, DC 20559-6200,” and add in its place “of Copyrights and Director of Registration Policy and Practice, P.O. Box 70400, Washington, DC 20024-0400,”.

§ 211.5 Deposit of identifying material.

* * * * *

(c) * * *

(1) Mask works commercially exploited. For commercially exploited mask works no more than two layers of each five or more layers in the work. In lieu of the visually perceptible representations required under paragraph (b)(1) of this section, identifying portions of the withheld material must be submitted. For these purposes, “identifying portions” shall mean:

(i) A printout of the mask work design data pertaining to each withheld layer, reproduced in microform; or

(ii) Visually perceptible representations in accordance with paragraph (b)(1)(i), (ii), or (iii) of this section with those portions containing sensitive information maintained under a claim of trade secrecy blocked out, provided that the portions remaining are greater than those which are blocked out.

(2) Mask work not commercially exploited. (i) For mask works not commercially exploited falling under paragraph (b)(2)(i) of this section, any layer may be withheld. In lieu of the visually perceptible representations required under paragraph (b)(2) of this section, “identifying portions” shall mean:

(A) A printout of the mask work design data pertaining to each withheld layer, reproduced in microform, in which sensitive information maintained under a claim of trade secrecy has been blocked out or stripped; or

(B) Visually perceptible representations in accordance with paragraph (b)(2)(i) of this section with those portions containing sensitive information maintained under a claim of trade secrecy blocked out, provided that the portions remaining are greater than those which are blocked out.

(ii) The identifying portions shall be accompanied by a single photograph of the top or other visible layers of the mask work fixed in a semiconductor chip product in which the sensitive information maintained under a claim of trade secrecy has been blocked out, provided that the blocked out portions do not exceed the remaining portions.

* * * * *

PART 212—PROTECTION OF VESSEL DESIGNS

75. The authority citation for part 212 continues to read as follows:

Authority: 17 U.S.C. chapter 13.

76. Revise the part heading as set forth above.

77. In part 212 remove the terms “hull” and “hulls” each place they appear.

§ 212.1 [Amended]

78. Amend § 212.1 by removing “vessel” and adding in its place “vessels”.

§ 212.2 [Amended]

79. Amend § 212.2 by removing “vessel” and adding in its place “vessels”.

§ 212.3 [Amended]

80. Amend § 212.3 in paragraph (h) introductory text by removing “6” and adding in its place “six”.

§ 212.4 [Amended]

81. In paragraph (a)(2), add “hull” after “vessel”.

§ 212.5 [Amended]

82. Amend § 212.5 as follows:

a. In paragraphs (a) through (c), remove “of a vessel” and add in its place “of a vessel design”.

b. In paragraph (d), remove “to: Dept. D-VH, Vessel Hull Registration, P.O. Box 71380, Washington, DC 20024-1380” and add in its place “to the address specified in § 201.1(b)(2) of this chapter”.

§ 212.6 [Amended]

83. Amend § 212.6 by removing “design protection of vessel” and adding in its place “the protection of vessel designs”.

§ 212.8 [Amended]

84. Amend § 212.8 as follows:

a. In paragraph (c)(1)(iv), remove “designers of the vessel” and add in its place “designers of the vessel design”.

b. In paragraph (c)(2), remove “he” and add in its place “the” and remove the comma after “Avenue”.

PARTS 253, 255, 258, 260-263, and 270—[REMOVED AND RESERVED]

85. Remove and reserve parts 253, 255, 258, 260, 261, 262, 263, and 270.

Dated: August 23, 2016.
Sarang V. Damle,
General Counsel and Associate Register of Copyrights, U.S. Copyright Office.

[FR Doc. 2016-20495 Filed 9-30-16; 8:45 am]

BILLING CODE 1410-30-P